DEPARTMENT OF COMMERCE

International Trade Administration

[A-570-803]

Heavy Forged Hand Tools, Finished or Unfinished, With or Without Handles, From the People's Republic of China: Notice of Amended Final Results of Antidumping Duty Administrative Reviews

AGENCY: Import Administration, International Trade Administration, Department of Commerce.

ACTION: Notice of amended final results of antidumping duty administrative reviews.

EFFECTIVE DATE: December 1, 2004.

FOR FURTHER INFORMATION CONTACT: Tom Martin or Mark Manning at (202) 482-3936 and (202) 482-5253, respectively; Office of AD/CVD Enforcement, Office 4, Import Administration, Room 1870, International Trade Administration, U.S. Department of Commerce, 14th Street and Constitution Avenue, NW., Washington, DC 20230.

SUMMARY: The Department of Commerce (“the Department”) is amending the final results of the administrative reviews of the antidumping duty orders on Heavy Forged Hand Tools, Finished or Unfinished, With or Without Handles (“HFHTs”) from the People's Republic of China (“PRC”) to reflect the correction of ministerial errors in those final results. The period of review (“POR”) is February 1, 2002, through January 31, 2003.

SUPPLEMENTARY INFORMATION:

Background

On September 15, 2004, the Department published the final results of administrative reviews of the antidumping duty orders on HFHTs from the PRC. See Heavy Forged Hand Tools, Finished or Unfinished, With or Without Handles, From the People's Republic of China: Final Results of Antidumping Duty Administrative Reviews, Final Partial Rescission of Antidumping Duty Administrative Reviews, and Determination Not To Revoke in Part, 69 FR 55581 (September 15, 2004) (“Final Results”). On September 17, 2004, the petitioner, Ames True Temper, submitted comments alleging that the Department made certain ministerial errors in the Final Results regarding the cash deposit rate for the PRC-wide entity for hammers/sledges, the assessment rate for the PRC-wide entity for all four HFHTs orders, and the assessment instructions for tampers. On September 20, 2004, the respondents ¹ filed rebuttal comments.

¹ The respondents in this review are Shangdong Huarong Machinery Co., Ltd. (“Huarong”), Liaoning Machinery Import & Export Corporation and Liaoning Machinery Import & Export Corporation, Ltd. (“LMC/LIMAC”), Shandong Machinery Import & Export Corporation (“SMC”), and Tianjin Machinery Import & Export Corporation (“TMC”).

Scope of the Review

The products covered by these administrative reviews are HFHTs comprising the following classes or kinds of merchandise: (1) Hammers and sledges with heads over 1.5 kg (3.33 pounds) (hammers/sledges); (2) bars over 18 inches in length, track tools and wedges (bars/wedges); (3) picks and mattocks (picks/mattocks); and (4) axes, adzes and similar hewing tools (axes/adzes).

HFHTs include heads for drilling hammers, sledges, axes, mauls, picks and mattocks, which may or may not be painted, which may or may not be finished, or which may or may not be imported with handles; assorted bar products and track tools including wrecking bars, digging bars, and tampers; and steel woodsplitting wedges. HFHTs are manufactured through a hot forge operation in which steel is sheared to required length, heated to forging temperature, and formed to final shape on forging equipment using dies specific to the desired product shape and size. Depending on the product, finishing operations may include shot blasting, grinding, polishing and painting, and the insertion of handles for handled products. HFHTs are currently provided for under the following Harmonized Tariff Schedule of the United States (“HTSUS”) subheadings: 8205.20.60, 8205.59.30, 8201.30.00, and 8201.40.60. Specifically excluded from these investigations are hammers and sledges with heads 1.5 kg. (3.33 pounds) in weight and under, hoes and rakes, and bars 18 inches in length and under.

The Department has issued four conclusive scope rulings regarding the merchandise covered by these orders: (1) On August 16, 1993, the Department found the “Max Multi-Purpose Axe,” imported by the Forrest Tool Company, to be within the scope of the axes/adzes order; (2) on March 8, 2001, the Department found “18-inch” and “24-inch” pry bars, produced without dies, imported by Olympia Industrial, Inc. and SMC Pacific Tools, Inc., to be within the scope of the bars/wedges order; (3) on March 8, 2001, the Department found the “Pulaski” tool, produced without dies by TMC, to be within the scope of the axes/adzes order; and (4) on March 8, 2001, the Department found the “skinning axe,” imported by Import Traders, Inc., to be within the scope of the axes/adzes order.

Amended Final Results

After reviewing the ministerial error allegations and the rebuttal comments, we have determined that the Department did make clerical errors in completing the Final Results, and we have amended the Final Results accordingly. For a detailed discussion of the Department's analysis of the ministerial error allegations, see Memorandum from Mark Manning, Acting Program Manager, to Holly A. Kuga, Senior Director, “Analysis of Ministerial Error Allegations,” dated concurrently with this notice.

Pursuant to section 751(h) of the Tariff Act of 1930, as amended (“the Act”), we have amended the Final Results by correcting a ministerial error that affected the margin for the PRC-wide entity in the hammers/sledges order. We will issue amended cash-deposit instructions to U.S. Customs and Border Protection (“CBP”) to reflect the amendment of the final results of these reviews. Pursuant to these amended results, we revised the following dumping margin:

Manufacturer/exporter | Margin (percent)
PRC-wide entity: Hammers/Sledges | 45.42.

Assessment

Upon completion of these administrative reviews, the Department will determine, and CBP shall assess, antidumping duties on all appropriate entries. In accordance with 19 CFR § 351.212(b)(1), for the respondents receiving calculated dumping margins, we calculated importer-specific per-unit duty assessment rates based on the ratio of the total amount of the dumping duties calculated for the examined sales to the total quantity of those same sales. These importer-specific per-unit rates will be assessed uniformly on all entries of each importer that were made during the POR. In accordance with 19 CFR 351.106(c)(2), we will instruct CBP to liquidate without regard to antidumping duties any entries for which the importer-specific assessment rate is de minimis (i.e., less than 0.5 percent ad valorem). In testing whether any importer-specific assessment rate is de minimis, we divided each importer's total amount of dumping duties by the total value of each importer's U.S. sales, which we calculated using net U.S. prices. Lastly, for the respondents receiving dumping rates based upon AFA, the Department will instruct CBP to liquidate entries according to the AFA ad valorem rate. The Department will issue appraisement instructions directly to CBP upon the completion of the final results of these administrative reviews.

Cash Deposit Requirements

The following deposit requirements will be effective upon publication of the final results of these administrative reviews for all shipments of HFHTs from the PRC entered, or withdrawn from warehouse, for consumption on or after the publication date of this notice, as provided for by section 751(a)(1) of the Act: (1) The cash deposit rates for reviewed companies will be the rates for those firms established in the final results of these administrative reviews; (2) for any previously reviewed or investigated PRC or non-PRC exporter not covered in these reviews, with a separate rate, the cash deposit rate will be the company-specific rate established in the most recent segment of these proceedings; (3) for all other PRC exporters, the cash deposit rates will be the PRC-wide rates established in the final results of these reviews; and (4) the cash deposit rate for any non-PRC exporter of subject merchandise from the PRC who does not have its own rate will be the rate applicable to the PRC exporter that supplied the non-PRC exporter. These deposit requirements, when imposed, shall remain in effect until publication of the final results of the next administrative reviews.

The PRC-Wide Cash Deposit Rates

The PRC-wide cash deposit rates are 55.74 percent for axes/adzes, 139.31 percent for bars/wedges, 45.42 percent for hammers/sledges, and 98.77 percent for picks/mattocks. These rates, except for the rate for hammers/sledges, are unchanged from the most recently completed administrative review. See Heavy Forged Hand Tools, Finished or Unfinished, With or Without Handles, From the People's Republic of China: Final Results of Antidumping Duty Administrative Review of the Order on Bars and Wedges, 68 FR 53347 (September 10, 2003). These deposit requirements shall remain in effect until publication of the final results of the next administrative reviews.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as the only reminder to parties subject to administrative protective orders (“APOs”) of their responsibility concerning the return or destruction of proprietary information disclosed under APO in accordance with 19 CFR § 351.305. Timely written notification of the return/destruction of APO materials or conversion to judicial protective order is hereby requested. Failure to comply with the regulations and terms of an APO is a violation which is subject to sanction.

We are issuing and publishing these amended final results in accordance with sections 751(h)of the Act and 19 CFR 351.224.

Dated: November 24, 2004.
Joseph A. Spetrini,
Acting Assistant Secretary for Import Administration.

[FR Doc. E4-3413 Filed 11-30-04; 8:45 am]

BILLING CODE 3510-DS-P